SMALL BUSINESS ADMINISTRATION

[Declaration of Disaster #3391]

State of Tennessee

Maury County and the contiguous Counties of Giles, Hickman, Lawrence, Lewis, Marshall and Williamson in the State of Tennessee constitute a disaster area due to damages caused by heavy rains and flooding that began on January 22, 2002 and continued through January 25, 2002. Applications for loans for physical damage may be filed until the close of business on April 8, 2002 and for economic injury until the close of business on November 6, 2002 at the address listed below or other locally announced locations: U.S. Small Business Administration, Disaster Area 2 Office, One Baltimore Place, Suite 300, Atlanta, GA 30308.

The interest rates are:

| Percent
For Physical Damage:
Homeowners With Credit Available Elsewhere | 6.625
Homeowners Without Credit Available Elsewhere | 3.312
Businesses With Credit Available Elsewhere | 7.000
Businesses and Non-Profit Organizations Without Credit Available Elsewhere | 3.500
Others (Including Non-Profit Organizations) With Credit Available Elsewhere | 6.375
For Economic Injury:
Businesses and Small Agricultural Cooperatives Without Credit Available Elsewhere | 3.500

The number assigned to this disaster for physical damage is 339106 and for economic injury the number is 9O4200.

(Catalog of Federal Domestic Assistance Program Nos. 59002 and 59008)
Dated: February 6, 2002.
Hector V. Barreto,
Administrator.

[FR Doc. 02-3374 Filed 2-11-02; 8:45 am]

BILLING CODE 8025-01-P